NATIONAL AERONAUTICS AND SPACE ADMINISTRATION

[Notice (01-033)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Thursday, March 15, 2001, 8:15 a.m. to 1:00 p.m.; and Friday, March 16, 2001, 8:30 a.m. to 2:00 p.m.

ADDRESSES: National Aeronautics and Space Administration, Room 9H40, 300 E Street, SW., Washington, DC 20546.

FOR FURTHER INFORMATION CONTACT: Ms. Kathy Dakon, Code Z, National Aeronautics and Space Administration, Washington, DC 20546, 202/358-0732.

SUPPLEMENTARY INFORMATION: The meeting will be closed to the public on Thursday, March 15, 2001, from 1:00 p.m. to 5:00 p.m. in accordance with 5 U.S.C. 552b(c)9(B), to hear briefings on the FY 2002 Performance Plan. Friday, March 16, 2001, will be open to the public up to the seating capacity of the room. The agenda for the meeting is as follows:

—Near Earth Asteroid Rendezvous (NEAR) Update

—Earth Science Update

—International Space Station (ISS) Research Management options

—Committee/TaskForce/Working Group Reports

—Discussion of Findings and Recommendations

It is imperative that the meeting be held on these dates to accommodate the scheduling priorities of the key participants. Visitors will be requested to sign a visitors register.

Dated: February 28, 2001.
Beth M. McCormick,
Advisory Committee Management Officer, National Aeronautics and Space Administration.

[FR Doc. 01-5316 Filed 3-5-01; 8:45 am]

BILLING CODE 7510-01-U